NATIONAL SCIENCE FOUNDATION

Special Emphasis Panel in Chemistry; Notice of Meeting

In accordance with the Federal Advisory Committee Act (Public Law 92-463, as amended), the National Science Foundation announces the following meeting:

Name/Code: Special Emphasis Panel in Chemistry (#1191).

Date/Time: July 24-25, 2000; 8:30 A.M.-5:00 P.M.

Place: Rooms 1020 and 1060, NSF, 4201 Wilson Boulevard, Arlington, VA.

Type of Meeting: Closed.

Contact Person: Dr. Joseph Akkara, Coordinator, Environmental Molecular Science Institute (EMSI) and Collaborative Research Activities in Environmental Molecular Science (CRAEMS), Chemistry Division, Room 1055, National Science Foundation, 4201 Wilson Boulevard, Arlington, VA 22230, Telephone: (703) 306-1857.

Purpose of Meeting: To provide advice and recommendations concerning proposals submitted to NSF for financial support.

Agenda: To review and evaluate proposals for the EMSI and CRAEMS as part of the selection process for awards.

Reason for Closing: The proposals being reviewed include information of a proprietary or confidential nature, including technical information, financial data such as salaries, and personal information concerning individuals associated with the proposals. These matters are exempt under 5 U.S.C. 552b(c), (4) and (6) of the Government in the Sunshine Act.

Note: Closed portions are proper under Sunshine Act exemptions cited. The CMO's signature on this Notice is the required determination.

Dated: June 12, 2000.
Karen J. York,
Committee Management Officer.

[FR Doc. 00-15225 Filed 6-15-00; 8:45 am]

BILLING CODE 7555-01-M